DEPARTMENT OF EDUCATION

Applications for New Awards; Competitive Grants for State Assessments Program

AGENCY: Office of Elementary and Secondary Education, Department of Education.

ACTION: Notice.

SUMMARY: The Department of Education (Department) is issuing a notice inviting applications for fiscal year (FY) 2024 for the Competitive Grants for State Assessments (CGSA) program, Assistance Listing Number (ALN) 84.368A. This notice relates to the approved information collection under OMB control number 1894-0006.

DATES:

Applications Available: March 8, 2024.

Deadline for Notice of Intent To Apply: April 8, 2024.

Deadline for Transmittal of Applications: May 22, 2024.

Deadline for Intergovernmental Review: July 22, 2024.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

FOR FURTHER INFORMATION CONTACT: Donald Peasley, Office of Elementary and Secondary Education, U.S. Department of Education, 400 Maryland Avenue SW, room 4B113, Washington, DC 20202-6132. Telephone: (202) 453-7982. Email: ESEA.Assessment@ed.gov.

If you are deaf, hard of hearing, or have a speech disability and wish to access telecommunications relay services, please dial 7-1-1.

SUPPLEMENTARY INFORMATION:

Full Text of Announcement

I. Funding Opportunity Description

Purpose of Program: The purpose of the CGSA program is to enhance the quality of assessment instruments and assessment systems used by States for measuring the academic achievement and growth of elementary and secondary school students.

Background: High-quality assessment systems are a key component of a rich, rigorous instructional program for every student. At this pivotal moment of closing opportunity and achievement gaps and supporting student success, high-quality assessments can provide critical insights to educators, parents or caregivers, and students that can help inform teaching and learning in ways that meet all students' needs. When well-designed for their intended purposes, information from high-quality assessments support educators to Raise the Bar by meeting students where they are and helping them accelerate their learning and development. Information from these assessments can also help to identify the students with the greatest need for additional support who would benefit from additional evidence-based interventions and measuring the impact of those interventions. High-quality assessment systems include valid and reliable diagnostic, formative, interim, and summative assessments that are used appropriately and in a way that effectively inform teacher and promotes student learning.

Statewide summative assessments are among multiple tools that when well-designed can provide valuable information to students, parents or caregivers, educators, and the public about student outcomes and opportunity gaps. In a November 20, 2023, letter, Secretary Cardona noted that, “Assessment data give insight into student learning, help guide instruction and meet students' needs, and can also drive resources and strategies to address general underperformance and disparities in opportunities and outcomes for students.” ¹ The Department encourages States to consider new and better ways to understand, evaluate, and respond to students' knowledge and abilities, including through the use of multiple measures of student academic achievement and growth, focusing on higher-order thinking skills and understanding, and by including as part of the assessment system, portfolios, projects, or extended performance tasks which can provide students with additional ways to demonstrated their learning, including providing students with culturally and linguistically responsive ways of demonstrating progress.

¹ See https://oese.ed.gov/files/2023/11/23-0431-DCL-IADA-os-approved-11.17.2023.pdf.

In the November 2023 letter, the Secretary also announced changes to the Innovative Assessment Demonstration Authority (IADA) application process. IADA provides States an opportunity to pilot and scale over time new approaches to assessment systems that can drive authentic teaching and learning and which, when well-designed, can provide useful and timely information to educators, parents or caregivers, and schools to inform instruction and supports. Therefore, this CGSA competition is also an opportunity for interested States to receive support in planning to apply for IADA. Through a previous request for information on IADA,² the Department heard from a number of respondents the importance of time and funding to prepare to apply for IADA, and this is a key opportunity to provide those resources.

² The request for information is available at https://www.federalregister.gov/documents/2023/03/31/2023-06697/request-for-information-regarding-the-innovative-assessment-demonstration-authority.

The Department also encourages States to consider how to build on technology advancement to allow for assessments to be conducted with more frequency and with fewer interruptions in instruction. In particular, technology advancement can support high-quality, instructionally embedded formative and diagnostic assessments that provide educators and parents or caregivers with valuable information as to where students are performing relative to their grade level throughout the year. As part of a comprehensive, aligned assessment system, formative and diagnostic assessments can complement information from statewide assessments and be an important tool to help educators adjust their instructional approaches to meet student needs. In recognition of the crucial role that formative and diagnostic assessments play in closing academic achievement gaps, this notice includes an invitational priority supporting the development of such assessments. This invitational priority can be used in conjunction with any of the absolute or competitive priorities.

States are also encouraged to considered opportunities to administer statewide summative assessments through multiple statewide interim assessments during the course of the academic year (and that result in a single summative score that provides valid, reliable, and transparent information on student achievement or growth) as permitted under the ESEA.

This notice is aligned with the strategies outlined in the Secretary's Supplemental Priorities and Definitions for Discretionary Grant Programs published in the Federal Register on December 10, 2021 (86 FR 70612) ³ (Supplemental Priorities), which include developing and implementing high-quality assessments of student learning (e.g., curriculum-aligned and performance-based tools aligned with State grade-level content standards and, for career and technical education, relevant industry standards) and strategies that allow educators to use data from assessments to inform instructional design and classroom practices that meet the needs of all students and provide high-quality professional development to support educators in implementing these strategies. Building curriculum-aligned and performance-based tools and providing high-quality professional development that helps educators both use the assessments and appropriately use the resulting data can accelerate learning recovery and support students, educators, and families.

³ Available at https://www.federalregister.gov/documents/2021/12/10/2021-26615/final-priorities-and-definitions-secretarys-supplemental-priorities-and-definitions-for.

Section 1203(b)(1)(A) of the ESEA identifies six allowable uses of funds under CGSA. In brief, these uses include (1) developing or improving assessments for English learners; (2) developing or improving models to measure and assess student progress or student growth on assessments; (3) developing or improving assessments for children with disabilities; (4) collaborating with institutions of higher education or other organizations to improve the quality, validity, and reliability of State academic assessments; (5) measuring student academic achievement using multiple measures of student academic achievement from multiple sources; and (6) evaluating student academic achievement using comprehensive academic assessment instruments (such as performance and technology-based academic assessments, computer adaptive assessments, projects, or extended performance task assessments) that emphasize the mastery of standards and aligned competencies in a competency-based education model. The last two statutory uses of funds are combined into an absolute priority in this competition.

These allowable uses of funds are not mutually exclusive. A State educational agency (SEA), or consortium of SEAs, applying for funds must identify how the proposed project addresses at least one of the absolute priorities in this CGSA competition. An applicant may propose to address any of the six allowed uses of funds, as long as it also addresses either of the absolute priorities in the Priorities section.

Grants awarded under Absolute Priority 1 promote deeper understanding of academic achievement of all student subgroups by supporting States in designing a statewide assessment system that meets Federal requirements and could do so by, for example, integrating information obtained from curriculum-embedded performance tasks or interim through-year assessments with information obtained from an end-of-year assessment to produce a valid, reliable, and fair measure of student achievement of State academic standards and are available for up to 48 months with a maximum budget request of $4,000,000 for the total project period. Grants awarded under Absolute Priority 2 focus on planning to apply for the innovative assessment demonstration authority and are available for up to 24 months with a maximum budget request of the greater of either $1,000,000 or the minimum permitted award size under CGSA, per statutory requirements, for the total project period (see the table in the application for the State-specific minimum award size).⁴ Applicants are required to clearly identify which of the absolute priorities they are addressing in their application. If an applicant erroneously selects both Absolute Priority 1 and Absolute Priority 2, or if an applicant fails to select either Absolute Priority 1 or 2, it will be subject to the maximum budget and timeframe noted above for Absolute Priority 2.

⁴ The Department will not make an award for less than the amount specified in section 1203(b)(1)(C) of the ESEA.

Competitive Preference Priority 1 is focused on supporting effective instruction and building educator capacity through the development of high-quality assessments of student learning and strategies that allow educators to use data from assessments to inform instruction.

Competitive Preference Priority 2 is focused on improving the utility of information about student performance included in reports of assessment results and providing better and more timely information to educators and parents.

The invitational priority is focused on developing high-quality formative, diagnostic, and/or interim assessments and tools that are part of a statewide, aligned assessment system to provide timely and actionable information to educators and parents or caregivers throughout the school year.

Priorities: This competition includes two absolute priorities, two competitive preference priorities, and one invitational priority. In accordance with 34 CFR 75.105(b)(2)(v), paragraph (a) of Absolute Priority 1 is from ESEA section 1201(a)(2)(K); and paragraph (b) of Absolute Priority 1 is from ESEA section 1201(a)(2)(L). Applicants may address either or both parts of this priority in order to be considered under Absolute Priority 1.

In accordance with 34 CFR 75.105(b)(2)(ii), Absolute Priority 2 is from the notice of final priorities (NFP) for the CGSA program, published in the Federal Register on May 1, 2020 (85 FR 25418) (2020 NFP).

In accordance with 34 CFR 75.105(b)(2)(v), Competitive Preference Priority 1 is from the Supplemental Priorities. Competitive Preference Priority 2 is from the notice of final priorities for the Enhanced Assessment Instruments Grant program, published in the Federal Register on August 8, 2016 (81 FR 52341) (2016 NFP).

Absolute Priorities: For FY 2024 and any subsequent year in which we make awards from the list of unfunded applications from this competition, these priorities are absolute priorities. Under 34 CFR 75.105(c)(3), we consider only applications that meet one or both of these priorities.

Each of the absolute priorities constitutes its own funding category, and the Department may award grants under each of these absolute priorities, provided that applications of sufficient quality are submitted. As a result, the Department may fund applications out of the overall rank order, but the Department is not bound to do so. Applicants must clearly identify the specific absolute priority that the proposed project addresses. If an SEA (or consortium of SEAs) is interested in proposing separate projects (e.g., one that addresses Absolute Priority 1 and another that addresses Absolute Priority 2), the SEA (or consortium of SEAs) must submit separate applications. If an SEA (or consortium of SEAs) erroneously submits an application that identifies both absolute priorities, or that fails to identify either absolute priority, that application will only be considered under Absolute Priority 2.

These priorities are:

Absolute Priority 1: Under this priority, an SEA must describe an approach to address either or both of the following—

(a) Measuring student academic achievement using multiple measures of student academic achievement from multiple sources; and/or

(b) Evaluating student academic achievement through the development of comprehensive academic assessment instruments (such as performance and technology-based academic assessments, computer adaptive assessments, projects, or extended performance task assessments) that emphasize the mastery of standards and aligned competencies in a competency-based education model.

Absolute Priority 2: Planning to Apply for the Innovative Assessment Demonstration Authority (IADA).

Under this priority, SEAs must—

(a) Provide an assurance by an authorized representative that the SEA intends to apply for flexibility under the IADA,⁵ when made available by the Department. If applying for CGSA as part of a consortium (or in partnership with other SEAs), each SEA must provide an assurance that it intends to apply for flexibility under the IADA;

⁵ See “Applying for the IADA” available at: https://oese.ed.gov/offices/office-of-formula-grants/school-support-and-accountability/iada/. The next IADA application deadlines are May 3, 2024, or December 6, 2024. Following that, the Department expects to have application deadlines each May and December in future years.

(b) If applying as a consortium of SEAs during the initial demonstration authority for IADA, not include more than four SEAs; and

(c) Describe their approach to innovative assessments in terms of the subjects and grades the SEA anticipates addressing, the proposed assessment design, proposed item types (e.g., item prototypes), and other relevant features.

Note: Because the initial demonstration period for the IADA has ended,⁶ item (b) listed above does not apply in this competition.

⁶ See https://oese.ed.gov/files/2023/11/23-0431-DCL-IADA-os-approved-11.17.2023.pdf.

Competitive Preference Priorities: For FY 2024 and any subsequent year in which we make awards from the list of unfunded applications from this competition, these priorities are competitive preference priorities. Under 34 CFR 75.105(c)(2)(i), the Department awards up to an additional 3 points to an application, depending on how well the application meets Competitive Preference Priority 1, and we award up to an additional 2 points to an application depending on how well the application meets Competitive Preference Priority 2. Applicants should identify which of the competitive priorities they are addressing in their application.

These priorities are:

Competitive Preference Priority 1: Supporting a Diverse Educator Workforce and Professional Growth to Strengthen Student Learning. (Up to 3 points)

Projects that are designed to increase the proportion of well-prepared, diverse, and effective educators serving students, with a focus on underserved students, through supporting effective instruction and building educator capacity by developing and implementing high-quality assessments (as defined in this notice) of student learning (for example, curriculum-aligned and performance-based tools aligned with State grade-level content standards or, for career and technical education, relevant industry standards) and strategies that allow educators to use the data from assessments to inform instructional design and classroom practices that meet the needs of all students, and providing high-quality professional development to support educators in implementing these strategies.

Competitive Preference Priority 2: Improving Assessment Scoring and Score Reporting. (Up to 2 points)

Under this priority, SEAs must:

(a) Develop innovative tools that leverage technology to score assessments;

(1) To respond to paragraph (a), applicants must propose projects to reduce the time it takes to provide test results to educators, parents, and students and to make it more cost-effective to include non-multiple choice items on assessments. These innovative tools must improve automated scoring of student assessments, in particular non-multiple choice items in reading/language arts, mathematics, or science; or

(b) Propose projects, in consultation with organizations representing parents (including parents of English learners and parents of students with disabilities), students, teachers, counselors, and school administrators to address needs related to score reporting, and improve the utility of information about student performance included in reports of assessment results, and provide better and more timely information to educators and parents;

(1) To respond to paragraph (b), applicants must include one or more of the following in their projects:

(i) Developing enhanced score reporting templates or digital mechanisms for communicating assessment results and their meaning (such as by providing clear and actionable next steps for parents);

(ii) Improving the assessment literacy of educators and parents to help them interpret test results and to support teaching and learning in the classroom (such as by providing training on test development and interpretation of test scores); and

(iii) Developing mechanisms for secure transmission and individual use of assessment results by teachers, students, and parents.⁷

⁷ Note that the applicant will need to ensure it transmits information consistent with the Family Educational Rights and Privacy Act (FERPA). For more information, see: https://www2.ed.gov/policy/gen/guid/fpco/ferpa/index.html.

(c) Applicants proposing projects under either paragraph (a) or (b) must provide a dissemination plan for sharing lessons learned and best practices such that their projects can serve as models and resources that can be shared with other States.

Invitational Priority: For FY 2024 and any subsequent year in which we make awards from the list of unfunded applications from this competition, this priority is an invitational priority. Under 34 CFR 75.105(c)(1) we do not give an application that meets an invitational priority any preference over other applications.

This priority is: Projects that propose to develop, improve, or scale high-quality formative, diagnostic, and/or interim assessments and tools that, to the greatest extent feasible, are part of a statewide, aligned assessment system to provide timely and actionable information to educators and parents or caregivers throughout the school year.

Application Requirement: For FY 2024 and any subsequent year in which we make awards from the list of unfunded applications from this competition, applicants must meet the following uses of funds application requirements from section 1203(b)(1)(B) of the ESEA, which refers to section 1201(a)(2)(C) and (H)-(L) of the ESEA.

Uses of Funds: As required by statute and stated earlier in this notice, applicants must demonstrate that their proposed uses of funds for CGSA would be to carry out one or more of the following activities:

(a) Developing or improving assessments for English learners, including assessments of English language proficiency as required under section 1111(b)(2)(G) of the ESEA and academic assessments in languages other than English to meet the State's obligations under section 1111(b)(2)(F) of the ESEA.

(b) Developing or improving models to measure and assess student progress or student growth on State assessments under section 1111(b)(2) of the ESEA and other assessments not required under section 1111(b)(2) of the ESEA.

(c) Developing or improving assessments for children with disabilities, including alternate assessments aligned to alternate academic achievement standards for students with the most significant cognitive disabilities described in section 1111(b)(2)(D) of the ESEA, and using the principles of universal design for learning.

(d) Allowing for collaboration with institutions of higher education, other research institutions, or other organizations to improve the quality, validity, and reliability of State academic assessments beyond the requirements for such assessments described in section 1111(b)(2) of the ESEA.

(e) Measuring student academic achievement using multiple measures of student academic achievement from multiple sources.

(f) Evaluating student academic achievement through the development of comprehensive academic assessment instruments (such as performance and technology-based academic assessments, computer adaptive assessments, projects, or extended performance task assessments) that emphasize the mastery of standards and aligned competencies in a competency-based education model.

Definitions: For FY 2024 and any subsequent year in which we make awards from the list of unfunded applications from this competition, the following definitions apply. The definition of “Universal design for learning” and, except as specified below, the definitions of “Child with a disability” and “English learner” are from section 8101 of the ESEA (20 U.S.C. 7801). The definitions of “Demonstrates a rationale,” “Logic model,” “Project component,” and “Relevant outcome” are from 34 CFR 77.1. The definitions of “Disconnected youth,” “High-quality assessment,” and “Underserved student” are from the Supplemental Priorities.

Child with a disability, as defined in section 602 of the Individuals with Disabilities Education Act, means—

(A) A child—

(i) With intellectual disabilities, hearing impairments (including deafness), speech or language impairments, visual impairments (including blindness), serious emotional disturbance (referred to in the IDEA as “emotional disturbance”), orthopedic impairments, autism, traumatic brain injury, other health impairments, or specific learning disabilities; and

(ii) Who, by reason thereof, needs special education and related services.

(B) The term “child with a disability” for a child aged 3 through 9 (or any subset of that age range, including ages three through five), may, at the discretion of the State and the local educational agency, include a child—

(i) Experiencing developmental delays, as defined by the State and as measured by appropriate diagnostic instruments and procedures, in 1 or more of the following areas: physical development; cognitive development; communication development; social or emotional development; or adaptive development; and

(ii) Who, by reason thereof, needs special education and related services.

Demonstrates a rationale means a key project component included in the project's logic model is informed by research or evaluation findings that suggest the project component is likely to improve relevant outcomes.

Disconnected youth, means an individual, between the ages 14 and 24, who may be from a low-income background, experiences homelessness, is in foster care, is involved in the justice system, or is not working or not enrolled in (or at risk of dropping out of) an educational institution.

English learner, when used with respect to an individual, means an individual—

(A) Who is aged 3 through 21;

(B) Who is enrolled or preparing to enroll in an elementary school or secondary school;

(C)(i) Who was not born in the United States or whose native language is a language other than English;

(ii)(I) Who is a Native American or Alaska Native, or a native resident of the outlying areas; and

(II) Who comes from an environment where a language other than English has had a significant impact on the individual's level of English language proficiency; or

(iii) Who is migratory, whose native language is a language other than English, and who comes from an environment where a language other than English is dominant; and

(D) Whose difficulties in speaking, reading, writing, or understanding the English language may be sufficient to deny the individual—

(i) The ability to meet the challenging State academic standards;

(ii) The ability to successfully achieve in classrooms where the language of instruction is English; or

(iii) The opportunity to participate fully in society.

High-quality assessments mean diagnostic, formative, interim, or summative assessments that are valid and reliable for the purposes for which they are used and that provide relevant and timely information to help educators, parents or caregivers, and policymakers support students at the student, classroom, school, and system levels.

Logic model (also referred to as a theory of action) means a framework that identifies key project components of the proposed project (i.e., the active “ingredients” that are hypothesized to be critical to achieving the relevant outcomes) and describes the theoretical and operational relationships among the key project components and relevant outcomes.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Underserved student means a student (which may include children in early learning environments, students in K-12 programs, students in postsecondary education or career and technical education, and adult learners, as appropriate) in one or more of the following subgroups:

(a) A student who is living in poverty or is served by schools with high concentrations of students living in poverty.

(b) A student of color.

(c) A student who is a member of a federally recognized Indian Tribe.

(d) An English learner.

(e) A child or student with a disability.

(f) A disconnected youth.

(g) A technologically unconnected youth.

(h) A migrant student.

(i) A student experiencing homelessness or housing insecurity.

(j) A lesbian, gay, bisexual, transgender, queer or questioning, or intersex (LGBTQI+) student.

(k) A student who is in foster care.

(l) A student without documentation of immigration status.

(m) A pregnant, parenting, or caregiving student.

(n) A student impacted by the justice system, including a formerly incarcerated student.

(o) A student performing significantly below grade level.

(p) A military- or veteran-connected student.

For the purpose of this definition—

Children or students with disabilities means children with disabilities as defined in section 602(3) of the Individuals with Disabilities Education Act (IDEA) (20 U.S.C. 1401(3)) and 34 CFR 300.8, or students with disabilities, as defined in the Rehabilitation Act of 1973 (29 U.S.C. 705(37), 705(202)(B)); and

English learner means an individual who is an English learner as defined in section 8101(20) of the ESEA.

Universal design for learning, as defined under section 103 of the Higher Education Act of 1965, as amended, means a scientifically valid framework for guiding educational practice that—

(a) Provides flexibility in the ways information is presented, in the ways students respond or demonstrate knowledge and skills, and in the ways students are engaged; and

(b) Reduces barriers in instruction, provides appropriate accommodations, supports, and challenges, and maintains high achievement expectations for all students, including students with disabilities and students who are limited English proficient.⁸

⁸ For purposes of this notice, “English learner” and “limited English proficient” have the same meaning.

Program Authority: Section 1203(b)(1) of the ESEA (20 U.S.C. 6363(b)(1)).

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The 2016 NFP. (e) The 2020 NFP. (f) The Supplemental Priorities.

II. Award Information

Type of Award: Discretionary grants.

Estimated Available Funds: At least $18,993,000.

Contingent upon the availability of funds and the quality of applications, we may make additional awards in FY 2024 (or later) from the list of unfunded applications from this competition.

Estimated Range of Awards for the Project Period:

$1,000,000 to $4,000,000.

Estimated Average Size of Awards for the Project Period: $2,500,000.

Maximum Size of Awards for the Project Period: We will not make an award exceeding $4,000,000 for an application submitted under Absolute Priority 1.

We will not make an award exceeding the greater of either $1,000,000 or the minimum permitted award size under CGSA, per statutory requirements, for an application submitted under Absolute Priority 2 for the total project period (see the table in the application for the State-specific minimum award size).

If an SEA (or consortium of SEAs) erroneously submits an application that identifies both absolute priorities, or that fails to identify either absolute priority, that application will only be considered under Absolute Priority 2.

Note: The Department will not make an award under either of the absolute priorities for less than the amount specified in section 1203(b)(1)(C) of the ESEA.

Estimated Number of Awards: 3 to 6.

Note: The Department is not bound by any estimates in this notice.

Project Period:

For projects Under Absolute Priority 1: Up to 48 months.

For projects Under Absolute Priority 2: Up to 24 months.

III. Eligibility Information

1. Eligible Applicants: SEAs, as defined in section 8101(49) of the ESEA, of the 50 States, the District of Columbia, and the Commonwealth of Puerto Rico, and consortia of such SEAs.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

4. Other: An application from a consortium of SEAs must designate one SEA as the fiscal agent.

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application. Please note that these Common Instructions supersede the version published on December 27, 2021.

2. Submission of Proprietary Information: Given the types of projects that may be proposed in applications for the CGSA, your application may include business information that you consider proprietary. In 34 CFR 5.11, we define “business information” and describe the process we use in determining whether any of that information is proprietary and, thus, protected from disclosure under Exemption 4 of the Freedom of Information Act (5 U.S.C. 552, as amended). Because we plan to make all application materials public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The project narrative is where you, the applicant, address the selection criteria that reviewers use to evaluate your application. We recommend that you (1) limit the application narrative to the equivalent of no more than 65 pages and (2) use the following standards:

• A “page” is 8.5” x 11”, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit applies to the project narrative, including the table of contents, which must include a discussion of how the application meets one of the absolute priorities, and how well the application addresses each of the selection criteria. The recommended page limit also applies to any attachments to the project narrative other than the items mentioned in Part 6 of the application package, including the references/bibliography. In other words, we recommend that the entirety of the project narrative, including the aforementioned discussion and any attachments to the project narrative, be limited to the equivalent of no more than 65 pages. The only allowable attachments other than those included in the project narrative are outlined in Part 6, “Other Attachments Forms,” in the application package.

The recommended 65-page limit, or its equivalent, does not apply to the following sections of an application: Part 1 (including the response regarding research activities involving human subjects); Part 2 (budget information); Part 3 (two-page project abstract); Part 5 (the budget narrative); Part 6 (memoranda of understanding or other binding agreement, if applicable; copy of applicant's indirect cost rate agreement; letters of commitment and support from collaborating SEAs and organizations; other attachments forms, including, if applicable, references/bibliography for the project narrative and individual résumés for project director(s) and key personnel); and Part 7 (standard assurances and certifications). Applicants are encouraged to limit each résumé to no more than five pages.

Please note, hyperlinks should not be used in an application. Reviewers will be instructed not to follow hyperlinks if included. Applicants are encouraged to submit applications that meet the page limit following the standards outlined in this section rather than submitting applications that are the equivalent of the page limit applying other standards.

6. Notice of Intent to Apply: The Department will be able to review grant applications more efficiently if we know the approximate number of applicants that intend to apply. Therefore, we strongly encourage each potential applicant to notify us of the applicant's intent to submit an application for funding and which absolute priority the applicant intends to address. This notification should be brief and identify the SEA applicant and, in the case of consortia applicants, the SEA that it will designate as the fiscal agent for an award. Submit this notification by email to ESEA.Assessment@ed.gov with “Intent to Apply” in the email subject line. Applicants that do not provide this notification may still apply for funding.

V. Application Review Information

1. Selection Criteria: The selection criteria for this competition are from 34 CFR 75.210. We will award up to 100 points to an application under the selection criteria; the total possible points for each selection criterion are noted in parentheses.

(a) Significance (up to 10 points).

The Secretary considers the significance of the proposed project. In determining the significance of the proposed project, the Secretary considers the following factors:

(1) The extent to which the proposed project is likely to build local capacity to provide, improve, or expand services that address the needs of the target population. (Up to 5 points)

(2) The likely utility of the products (such as information, materials, processes, or techniques) that will result from the proposed project, including the potential for their being used effectively in a variety of other settings. (Up to 5 points)

(b) Quality of the project design (Up to 25 points).

The Secretary considers the quality of the design of the proposed project. In determining the quality of the design of the proposed project, the Secretary considers the following factors:

(1) The extent to which the goals, objectives, and outcomes to be achieved by the proposed project are clearly specified and measurable. (Up to 10 points)

(2) The extent to which the proposed project is part of a comprehensive effort to improve teaching and learning and support rigorous academic standards for students. (Up to 10 points)

(3) The extent to which the proposed project demonstrates a rationale (as defined in this notice). (Up to 5 points)

(c) Quality of project services (Up to 35 points).

The Secretary considers the quality of the services to be provided by the proposed project. In determining the quality of the services to be provided by the proposed project, the Secretary considers:

(1) The quality and sufficiency of strategies for ensuring equal access and treatment for eligible project participants who are members of groups that have traditionally been underrepresented based on race, color, national origin, gender, age, or disability. (Up to 10 points)

(2) The extent to which the services to be provided by the proposed project are appropriate to the needs of the intended recipients or beneficiaries of those services. (Up to 10 points)

(3) The extent to which the training or professional development services to be provided by the proposed project are of sufficient quality, intensity, and duration to lead to improvements in practice among the recipients of those services. (Up to 15 points)

(d) Adequacy of resources (Up to 10 points).

The Secretary considers the adequacy of resources for the proposed project. In determining the adequacy of resources for the proposed project, the Secretary considers the extent to which the costs are reasonable in relation to the number of persons to be served and to the anticipated results and benefits.

(e) Quality of the management plan (Up to 15 points).

The Secretary considers the quality of the management plan for the proposed project. In determining the quality of the management plan for the proposed project, the Secretary considers:

(1) The adequacy of the management plan to achieve the objectives of the proposed project on time and within budget, including clearly defined responsibilities, timelines, and milestones for accomplishing project tasks. (Up to 5 points)

(2) The extent to which the time commitments of the project director and principal investigator and other key project personnel are appropriate and adequate to meet the objectives of the proposed project. (Up to 10 points)

(f) Quality of the project evaluation (Up to 5 points).

The Secretary considers the quality of the evaluation to be conducted of the proposed project. In determining the quality of the evaluation, the Secretary considers the extent to which the methods of evaluation are thorough, feasible, and appropriate to the goals, objectives, and outcomes of the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN), or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to preexisting works, the license extends only to those modifications that can be separately identified and only to the extent that open licensing is permitted under the terms of any licenses or other legal restrictions on the use of preexisting works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For purposes of Department reporting under 34 CFR 75.110, the Department has developed three measures to evaluate the overall effectiveness of the CGSA program:

(1) The percentage of grantees, for each grant cycle, that demonstrate significant progress towards improving, developing, or implementing a new model for measuring the achievement or growth of students.

(2) The percentage of grantees, for each grant cycle, that demonstrate collaboration with institutions of higher education, other research institutions, or other organizations to develop or improve State assessments.

(3) The percentage of grantees that, at least three times during the period of their grants, make available to SEA staff in non-participating States and to assessment researchers information on findings resulting from the CGSA program through presentations at national conferences, publications in refereed journals, or other products disseminated to the assessment community.

Grantees will be expected to include in their interim and final performance reports information about the accomplishments of their projects.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Adam Schott,
Principal Deputy Assistant Secretary, Delegated the Authority to Perform the Functions and Duties of the Assistant Secretary, Office of Elementary and Secondary Education.

[FR Doc. 2024-04972 Filed 3-7-24; 8:45 am]

BILLING CODE 4000-01-P